DEPARTMENT OF TRANSPORTATION

Federal Aviation Administration

Operating Limitations at Newark Liberty International Airport, Order Establishing Targeted Scheduling Limits

AGENCY: Federal Aviation Administration (FAA), Department of Transportation.

ACTION: Order establishing targeted scheduling limits at Newark Liberty International Airport.

I. Introduction

This Order establishes a reduced targeted scheduling limit on the number of scheduled operations at Newark Liberty International Airport (EWR) reflected in authorized scheduled timings. The Acting Administrator of the Federal Aviation Administration (FAA) is issuing this Order as a result of a persistent number of flights above capacity at EWR and the delay reduction proceedings. This Order is in the interest of airspace safety and intends to relieve the substantial inconvenience to the traveling public caused by excessive flight delays at the airport due to construction, staffing challenges, and recent equipment issues, which magnify as they spread through the National Airspace System. This Order aims to provide a more efficient use of the nation's airspace and alleviate temporary conditions exacerbating delays at EWR. This Order takes effect on June 6, 2025, and expires on December 31, 2025.

II. Background

The U.S. Government has exclusive sovereignty over the airspace of the United States.¹ Under this broad authority, Congress has delegated to the Administrator extensive and plenary authority to ensure the safety of aircraft and the efficient use of the nation's navigable airspace. In this regard, the Administrator is required to assign the use of navigable airspace by regulation or order under such terms, conditions and limitations as he may deem necessary to ensure its efficient use.² The Administrator may modify or revoke an assignment when required in the public interest.³ Furthermore, in carrying out the Administrator's safety responsibilities under the statute, the Administrator must consider controlling the use of the navigable airspace and regulating civil operations in that airspace in the interest of the safety and efficiency of those operations.⁴

¹ 49 U.S.C. 40103.

² 49 U.S.C. 40103(b)(1), as previously codified in 49 U.S.C. App. § 307(a). Title 49 was recodified by Public Law 103-222, 108 Stat. 745 (1994). The textual revisions were not intended to result in substantive changes to the law. The recodification stated that the words in § 307(a) “under such terms, conditions, and limitations as he may deem” were omitted as surplus. H. Rpt. 103-180 (103d Cong., 1st Sess. 1993) at 262.

³ Id.

⁴ 49 U.S.C. 40101(d)(4).

The FAA's statutory authority to manage “the efficient use of airspace” encompasses its management of the nationwide system of air commerce and air traffic control. Ensuring the efficient use of the airspace means that the FAA must take all necessary steps to prevent extreme congestion at an airport from disrupting or adversely affecting the overall air traffic system for which the FAA is responsible. Further, delays at EWR frustrate the efficient operations of air carriers transporting passengers to and from this important region. The impacts of delays at EWR spread throughout the national airspace system (NAS), resulting in substantial economic loss for the traveling public, air carriers, shippers, and others.

EWR Level 2 Designation

On April 6, 2016, the FAA designated EWR as a Level 2 schedule-facilitated airport under the International Air Transportation Association (IATA) Worldwide Slot Guidelines (WSG), effective October 30, 2016.⁵

⁵ 81 FR 19861 (April 6, 2016).

The FAA does not allocate slots, apply historic precedence, or impose minimum usage requirements at EWR. Level 2 schedule facilitation depends upon close and continuous discussions and voluntary agreement between carriers and the FAA to reduce congestion. At Level 2 airports, the FAA provides priority consideration for flights approved by the FAA and operated by the carrier in those approved times in the prior scheduling season when the FAA reviews proposed flights for facilitation in the next corresponding scheduling season. Only those flights that were actually operated as approved in the prior scheduling season generally receive priority for the next corresponding scheduling season. However, the FAA notes that the usual Level 2 processes include flexibility for the facilitator to prioritize planned flights that are canceled in advance or on the day of the scheduled operation due to operational impacts beyond the control of the carrier.

Although the FAA redesignated EWR from a Level 3 to Level 2 airport in 2016, the FAA has continuously monitored the airport's performance due to its prominence in the NAS and impact on the system overall. As such, EWR implemented targeted scheduling limits in an effort to minimize delay and congestion. The current baseline targeted scheduling limit for EWR is 77 operations per hour.⁶ The FAA has implemented a number of mitigations to address delays at the airport due to staffing challenges and runway construction.

⁶ 89 FR 43501 (May 17, 2024).

Staffing-Related Relief at EWR

On March 27, 2023, the FAA announced a limited policy for prioritizing up to ten percent of a carrier's returned operations at EWR, due to post-pandemic effects on ATC staffing at New York Terminal Radar Approach Control (TRACON) (N90), for purposes of establishing a carrier's operational baseline in the next corresponding season.⁷ The FAA determined that the interdependency and complexity of the airspace, number of flights into the New York City region, and N90 staffing shortfalls met the applicable waiver standard for the N90's Level 3 airports and justified an offer of relief for carriers at EWR. The FAA extended this relief through the close of the Summer 2025 Scheduling Season.⁸ This relief is part of a continuous effort, in partnership with air carriers, to manage traffic at EWR safely and efficiently while staffing levels improve.

⁷ 88 FR 18032 (March 27, 2023).

⁸ 90 FR 12931 (March 19, 2024).

EWR Construction

On November 20, 2024, the FAA announced a limited, conditional policy for prioritizing returned operations at EWR due to a construction-related runway closure at EWR for purposes of establishing a carrier's operational baseline in the next corresponding scheduling seasons.⁹ Runway 4L-22R was scheduled to be closed daily from April 15, 2025, through June 15, 2025.¹⁰ Weekend closures of Runway 4L-22R were scheduled from March 1, 2025, to April 14, 2025, and will resume September 1, 2025, to December 31, 2025, from Friday at 11 p.m. through 5 a.m. on Sunday, Eastern Time.

⁹ 89 FR 91544 (November 20, 2024).

¹⁰ On June 2, 2025, Secretary of Transportation Sean Duffy, Acting FAA Administrator Christopher Rocheleau, and the Port Authority of New York and New Jersey announced that Runway 4L-22R reopened 13 days ahead of schedule, allowing regular runway operations to resume for Instrument Flight Rules operations once FAA conducts the necessary check flights. https://www.panynj.gov/port-authority/en/press-room/press-release-archives/2025-press-releases/governor-murphy-and-the-port-authority-of-new-york-and-new-jerse.html.

The FAA worked with carriers prior to issuing the policy to address the impact this runway closure has on scheduled operations for the Summer 2025 and Winter 2025/2026 scheduling seasons. The FAA requested that carriers reduce operations from April 15, 2025, through June 15, 2025, to no more than 35 arrivals per hour from 6 a.m. to 2 p.m., Eastern Time and no more than 31 arrivals per hour from 3 p.m. to the end of the day, Eastern Time. The FAA also requested that carriers reduce operations to no more than 35 departures per hour through 4 p.m., Eastern Time, and no more than 31 departures per hour from 5 p.m. through the end of the day, Eastern Time. The FAA stated that no new requested timings would be approved during the runway closure period.

Air Traffic Controller Staffing Status

Since July of 2024, Philadelphia TRACON (PHL) has been the TRACON facility responsible for overseeing the Newark area. PHL's targeted staffing number is 114 Certified Professional Controllers (CPCs); the current onboard number at PHL is 82, representing 71.9% staffed. Area C, overseeing the Newark area, has a targeted staffing number of 38 CPCs, with its current staff of 24 CPCs representing 63% staffed. Under an arrangement by the previous administration, by the end of July 2026, 16 CPCs currently assigned to Area C will return to N90, which previously oversaw the Newark area. Actions are currently underway to train CPCs for Area C and to replace those 16 CPCs. PHL currently has 26 trainees, and many of these have previous experience at higher level facilities and are expected to certify in less time than typical. This pipeline of personnel will allow the FAA to build up CPC staffing for Area C.

Equipment Outages

EWR recently experienced technology outages. The FAA is taking steps to immediately shore up the reliability of equipment and operations at EWR considering these outages. However, currently, these outages lead to disruptions that cause delays and impact operations at EWR.

Delay Reduction Meeting

The FAA convened a delay reduction meeting with U.S. air carrier participants with a minimum of 10 scheduled arrivals at EWR and representatives from the PANYNJ on May 14, 2025, and the meeting continued until its recess on May 16, 2025. The FAA held individual sessions over the three days with seven air carriers and the PANYNJ. In these meetings, the FAA and carriers discussed voluntary modifications to schedules during the construction period and through the rest of the Summer 2025 scheduling season. Representatives of the Department of Justice's Antitrust Division and the Department of Transportation (DOT) monitored the joint and individual meeting sessions of the delay reduction meeting. In addition, the in-person sessions were transcribed.

Interim Order Establishing Targeted Scheduling Limits

On May 20, 2025, the FAA issued an interim Order reducing the targeted scheduling limits temporarily at EWR for the construction period and through the end of the Summer 2025 scheduling season.¹¹ The interim Order established a targeted hourly arrival rate of no more than 28 operations, with a corresponding departure rate of 28 operations, resulting in no more than 56 total operations per hour during the remainder of the construction period. The construction period was defined as the scheduled daily closure of Runway 4L/22R until June 15, 2025, and weekends from September 1, 2025, through December 31, 2025, from Friday at 11 p.m. through 5 a.m. on Sunday. Outside of the construction period, through the end of Summer 2025 scheduling season on October 25, 2025, the targeted scheduling limit is 34 arrivals per hour, with a corresponding departure rate of 34 operations, resulting in no more than 68 total operations per hour. The interim Order remained in effect until the issuance of this final Order.

¹¹ 90 FR 22147 (May 23, 2025).

III. Comments Regarding Competition and Long-Term Plans To Address EWR Congestion and Delays

By the close of the public comment period on May 28, 2025, the FAA received nine comments on the interim Order. Commenters included United Airlines (United), the American Economic Liberties Project (AELP), Association of Value Airlines (AVA), Spirit Airlines (Spirit), the Port Authority of New York and New Jersey (PANYNJ), and several anonymous commenters. The comments indicated support for the delay reduction proceedings and the FAA and DOT's efforts to address congestion at EWR. Commenters also noted the competition concerns that arise when carriers are asked to reduce operations.

United reiterated its strong commitment to improving the efficiency and safety of EWR and pointed out the need for a long-term solution to address congestion at EWR. United stated that it worked diligently to make “deep, good faith” reductions in its operations at EWR. The carrier noted that this came at significant cost to United but was in the best interest of the passengers flying through EWR. Additionally, given CPC staffing issues and technology challenges, United suggested extending the scheduling reduction process to cover the Winter 2025/26 and Summer 2026 scheduling seasons. Beyond the delay reduction proceedings, United requested that EWR be designated as a Level 3 slot-controlled airport to manage congestion, improve scheduling transparency, and ensure fair operations among all carriers.

The DOT and the FAA appreciate United's participation in the delay reduction process and understand its concerns regarding future demand at EWR, particularly around upcoming major events. While consideration of a return to Level 3 slot controls at EWR, or the extension of the scheduling reduction process through the Summer 2026 schedule season, are beyond the scope of this final Order, the DOT and the FAA intend to continue working with all stakeholders to ensure that EWR is a safe, efficient, and functional gateway for passengers and air carriers.

AELP stated that United holds most of the operations at EWR and urged that operational restrictions not disproportionately harm low-fare carriers that provide competition. AELP stated there are 33 air carriers serving the airport and United operates between 65% to 70% of the total operations. AELP urged the FAA to avoid creating a chilling effect on market share or reduce low-fare options for passengers at EWR if the targeted operational limitations impacted the other 32 carriers disproportionately.

The DOT and the FAA understand and share AELP's concerns about ensuring adequate competition, not only at EWR but across the U.S. aviation system. The schedule reductions accomplished through the delay reduction process are intended to be temporary and cooperative. Both the DOT and the Department of Justice actively participated in the delay reduction process to address competition equities.

AVA and Spirit expressed similar concerns as AELP with respect to requesting that low-fare carriers not be subject to further reductions and urged FAA and DOT to consider competition at EWR when applying reductions. Additionally, Spirit requested that the FAA implement a formal cap on peak-hour flight authorizations, limiting any single carrier to no more than 50% of the peak-hour slots, to allow low-fare carriers like Spirit to increase their presence and maintain competition. Finally, AVA stated that any final Order imposing scheduling limitations should be reevaluated on a seasonal basis.

The DOT and the FAA are not seeking additional mandatory schedule reductions in this final Order. Spirit's request that carriers should be subject to a limit on the number of hourly operations they can hold would require regulatory changes that are beyond the scope of this proceeding.

In response to AVA's request that scheduling limitations be reviewed seasonally, part of the scheduling limitations in this final Order will expire at the close of the Summer 2025 scheduling season and the remaining scheduling limitations will expire December 31, 2025. The DOT and the FAA intend to consult with all stakeholders before proceeding with any scheduling limitations or relief beyond those dates.

The PANYNJ supported the FAA's effort to mitigate both the immediate and long-term issues related to efficiency and safety EWR but requested to collaborate with the DOT and the FAA to create a transparent plan to return EWR to full operating capacity. PANYNJ also noted the necessity for continued federal investment to prioritize improvements of CPCs and infrastructure at all the NY/NJ area airports. PANYNJ also stated that it believed some of the staffing and technology challenges may have stemmed from relocating EWR's airspace management from the New York TRACON to PHL.

The DOT and the FAA understand and share PANYNJ's interest in the efficient and safe operation of EWR. The DOT and the FAA plan to implement upgrades to airport infrastructure and equipment across the U.S. Further, the FAA is continuously monitoring EWR for efficiency and safety.

An anonymous commenter recommended that this final Order should require all affected carriers to proactively inform passengers of their rights, rebooking options, and refund eligibility for flights cancelled or rescheduled as a result of the Order.

These issues are outside of the scope of the FAA's purview and are more appropriate for the DOT's Office of Aviation Consumer Protection.

An anonymous commenter asked if the FAA analyzed the greenhouse gas emissions impact of taxi, delay, and rerouting operations caused by congestion and construction at EWR, and will emissions reductions be factored into future scheduling decisions.

The FAA has determined that this action qualifies for categorical exclusion under the National Environmental Policy Act in accordance with FAA Order 1050.1F, “Environmental Impacts: Policies and Procedures,” paragraphs 5-6.5. j, 5-6.6.d, and 5-6.6.f. the FAA's NEPA review looked at all applicable environmental impacts, including climate and air quality. This action is not expected to cause any potentially significant environmental impacts, and no extraordinary circumstances exist that warrant preparation of an environmental assessment. The CATEX determination will be placed in the docket associated with these proceedings.¹²

¹² Docket No. FAA-2008-0021.

An anonymous commenter asked if the FAA would publish anonymized, but disaggregated data on flight reduction allocations by carrier, to allow public scrutiny of whether major, minor, and new entrant carriers are treated equitably.

The FAA will not be publishing data on flight reduction by carrier, as that information falls under the protection of business confidentiality by carrier request. The public can obtain flight origin and destination data via the Bureau of Transportation Statistics to review changes in carrier service.

An anonymous commenter asked what protections the FAA will implement to prevent service cuts from disproportionately targeting flights to small and rural airports that already face limited connectivity and higher fares.

While the DOT and the FAA understand the importance of connectivity and access for small and rural communities, neither the DOT nor the FAA have the authority to regulate airline routes or fares.

An anonymous commenter stated that the FAA should provide periodic public reporting on antitrust compliance and inter-carrier communications, ensuring that the process remains pro-competitive and aligned with the public interest.

Neither the DOT nor the FAA have authority related to antitrust compliance. However, the Department of Justice participated in the delay reduction proceedings to monitor compliance with all antitrust requirements.

An anonymous commenter recommended the FAA should hold community listening sessions, virtual and in-person, for travelers, airport workers, and residents in the EWR catchment area, including language access for non-English speakers.

In light of the urgent need to address delays and ensure safety at EWR, the FAA will not be holding community listening sessions at this time. However, the public has been given notice and the opportunity to provide comments in the docket.

An anonymous commenter suggested the final Order should include a mandatory sunset review, with public notice and opportunity for comment, to ensure flight limits are not extended beyond necessity and that recovery in access, competition, and employment is prioritized.

This Order is applicable for a limited period. The DOT and the FAA's goal is to ensure maximum capacity in the NAS to ensure the economic benefits of aviation are realized, and the DOT and the FAA are prioritizing investments to achieve that goal. As well, the FAA continuously monitors performance data at EWR to ensure safe and efficient operations.

An anonymous commenter also recommended that the FAA should require a public equity assessment to ensure that flight reductions do not affect low-income, minority, and immigrant communities; that the FAA should require carriers to submit a labor impact statement outlining how flight reductions will affect personnel, with a commitment to minimize layoffs and offer scheduling flexibility; and asked whether the FAA will provide real-time public access to data on delays, cancellations, and schedule adherence during the affected periods, to empower passenger decision-making and independent oversight.

These issues are outside the scope of this proceeding.

Finally, two anonymous commenters requested personnel changes at the DOT. These comments are outside the scope of this proceeding.

IV. Hourly Targeted Scheduling Limitations

The FAA's targeted scheduling limits remain consistent with the reductions and corresponding time periods established in the interim Order. Although the daily closure of Runway 4L-22R lifted on June 2, 2025, for Visual Flight Rules (VFR) traffic, the runway will not be open for Instrument Flight Rules (IFR) traffic until the FAA conducts check flights. Moreover, this development has not adjusted the targeted scheduling limits. Further, the FAA did not receive any public comments suggesting different limits for FAA to consider.

From the date of issuance of this Order until June 15, 2025, and on weekends from September 1, 2025, through December 31, 2025, from Friday at 11 p.m. through 5 a.m. on Sunday, Eastern Time, the targeted limit is no more than 28 arrivals and 28 departures per hour. Outside of the construction period, until the close of the Summer 2025 scheduling season, October 25, 2025, the limit is no more than 34 arrivals and 34 departures per hour.

The FAA will continue to work with carriers to ensure more balanced operations within each 15-minute interval of each schedule-facilitated hour.

V. Foreign Air Carriers

Prior to the issuance of this Order, the FAA notified all stakeholders, including foreign carriers, of the delay reduction meeting. Subsequent to the meeting, the FAA reached out to foreign carriers with at least 10 roundtrip operations per day at EWR to assess their operations and to allow them the opportunity to propose any voluntary schedule reductions or modifications that may alleviate congestion at EWR. In response, one foreign carrier provided schedule reductions at EWR.

VI. Unscheduled Operations and New Scheduled Operations

The FAA will not accommodate new scheduled operations at EWR. Permitting new scheduled operations could exacerbate the existing conditions and undo the purpose of the delay reduction meeting, which is to achieve operational stability at EWR.

The FAA will continue to accommodate other unscheduled operations, such as cargo, charter, or nonscheduled foreign carrier operations, on a “first come, first serve” basis to the extent such operators can be accommodated at EWR. All requests must be submitted to and approved by the FAA Slot Administration at 7-awa-slotadmin@faa.gov. In addition, these operations must also obtain approval from the EWR terminal to operate. The FAA encourages operators to utilize nearby airports to access the region while this Order is in effect.

VII. Operational Flexibility

Based on the FAA's experience with capacity-constrained airports, the FAA anticipates that carriers may occasionally need to modify their schedules for operational or other reasons while this Order is in effect. Accordingly, this Order provides a mechanism through which such carriers can modify their schedules.

Carriers operating at EWR must obtain the Administrator's written approval before making a schedule change to outside the hourly window associated with an authorized timing.

The FAA also recognizes that the Winter 2025/2026 schedule submission date was May 15, 2025. The FAA will work with carriers to accommodate schedules proposed for Saturdays in the construction period in the Winter 2025/2026 Scheduling Season.

The FAA recognizes that there may be unexpected disruptions due to operation issues, weather, or other circumstances beyond the carrier's control. Since EWR is a Level 2 airport, The FAA will work the carrier on any additional relief needed to prioritize impacted operations for the purposes of establishing operational baselines for the next corresponding season.

VIII. National Environmental Policy Act

The FAA has determined that this action qualifies for categorical exclusion (CATEX) under the National Environmental Policy Act (42 U.S.C. 4321, et seq.) in accordance with FAA Order 1050.1F, “Environmental Impacts: Policies and Procedures,” paragraphs 5-6.5.j, 5-6.6.d, and 5-6.6.f. The CATEX listed in FAA Order 1050.1F, paragraph 5-6.5.j applies to the following category of actions: “Implementation of procedures to respond to emergency air or ground safety needs, accidents, or natural events with no reasonably foreseeable long-term adverse impacts.” The FAA has determined that the circumstances at EWR, including ongoing construction of a major runway, Air Traffic Control telecommunications failures, and insufficient Air Traffic Control staffing levels rise to the level of emergency air or ground safety needs. Moreover, there are no reasonably foreseeable long-term adverse impacts given that the Order is of limited duration and involves only reduced, as opposed to increased, operations.

The CATEX listed in FAA Order 1050.1F, paragraph 5-6.6.d applies to: “Issuance of regulatory documents (e.g., Notices of Proposed Rulemaking and issuance of Final Rules) covering administrative or procedural requirements.” The CATEX in paragraph 5-6.6.f applies to: “Regulations, standards, and exemptions (excluding those that if implemented may cause a significant impact on the human environment).” The FAA has determined that these CATEX categories are applicable as well.

This action is not expected to cause any potentially significant environmental impacts, and no extraordinary circumstances exist that would preclude the use of this CATEX and require a higher level of NEPA review.

IX. Order

Accordingly, with respect to flight operations at EWR, under the authority provided to the Secretary of Transportation and the FAA Administrator by 49 U.S.C. 40101, 40103, 40113, and 41722, it is hereby ordered that:

1. This Order modifies the targeted scheduling limit for arrivals and departures at EWR during the affected hours for the U.S. air carriers who operate at EWR as reflected by authorized scheduled timings. The FAA will not accommodate authorized scheduled timings under this Order to any person or entity other than a certificated U.S. air carrier with appropriate economic authority and the FAA operating authority under 14 CFR part 121, 129, or 135. This Order further affirms that the FAA will not accommodate new requests or re-timings into schedule-facilitated hours with 34 arrivals and 34 departures if such a request will result in exceeding the hourly limit. Finally, the FAA will accommodate unscheduled operations in certain hours throughout the schedule-facilitated day, on a “first come, first serve” basis. All requests must be submitted to and approved by the FAA Slot Administration at 7-awa-slotadmin@faa.gov. The FAA Vice President, System Operations Services, is the final decision-maker for determinations under this paragraph. The provisions in paragraphs 2 through 11 below apply to the following:

a. All U.S. air carriers conducting scheduled operations at EWR as of the date of this Order, any U.S. air carrier that operates under the same designator code as such carrier, and any air carrier that has or enters into a codeshare agreement with such carrier.

b. All U.S. air carriers operating scheduled or regularly conducted commercial service to EWR while this Order is in effect.

2. This Order establishes daily targeted scheduled arrivals and departures at EWR from 6 a.m. through 10:59 p.m., Eastern Time, until October 25, 2025, and on weekends from September 1, 2025, through December 31, 2025, from Friday at 11 p.m. through 5 a.m. on Sunday.

3. This Order takes effect on June 6, 2025, and expires on December 31, 2025.

4. The following procedures apply to authorized scheduled timings at EWR:

a. Scheduled air carrier arrivals and departures should not exceed 28 per hour, respectively, from 6 a.m. through 10:59 p.m., Eastern Time until June 15, 2025, and weekends from September 1, 2025, through December 31, 2025, from Friday at 11 p.m. through 5 a.m. on Sunday, Eastern Time. From June 16, 2025, through October 25, 2025, arrivals and departures should not exceed 34 per hour, respectively, aside from the Saturdays designated as part of the construction period when the lower targeted rate applies.

b. The Administrator may change the targeted limits if he determines that capacity exists to accommodate additional operations without a significant increase in delays.

5. Carriers will retain historic priority for the next corresponding season for authorized scheduled timings reduced or re-timed under the delay reduction proceedings.

6. A carrier operating an authorized scheduled timing may request the Administrator's approval to move any arrival or departure scheduled from 6 a.m. through 10:59 p.m. to another half hour within that period. Except as provided in paragraph seven, the carrier must receive the written approval of the Administrator, or his delegate, prior to conducting any scheduled arrival or departure. All requests to move an authorized scheduled timing must be submitted to the FAA Slot Administration Office at 7-AWA-Slotadmin@faa.gov, and must come from a designated representative of the carrier.

7. Notice of a swap must be submitted in writing to the FAA Slot Administration Office at 7-AWA-Slotadmin@faa.gov and must come from a designated representative of each carrier. FAA must confirm and approve these exchanges in writing prior to the effective date of the exchange.

8. Any authorized scheduled timing not used during the remainder of the Summer 2025 scheduling season or applicable dates in the Winter 2025/2026 scheduling season will not be prioritized for the purposes of establishing an operational baseline for the next corresponding season unless the carrier notifies the FAA of a request for prioritization. The FAA and the DOT will review these requests. The FAA will respond to the carrier with an acknowledgement of the request and a determination.

9. If the FAA determines that a further reduction in targeted scheduled operations is needed, the FAA may call an additional scheduling reduction meeting pursuant to 49 U.S.C. 41722.

10. The FAA may enforce this Order through an enforcement action seeking a civil penalty under 49 U.S.C. 46301(a). A carrier that is not a small business as defined in the Small Business Act, 15 U.S.C. 632, will be liable for a civil penalty of up to $75,000 for every flight it operates above the limits set forth in this Order. A carrier that is a small business as defined in the Small Business Act will be liable for a civil penalty of up to $16,630 for every flight it operates above the limits set forth in this Order. The FAA also could file a civil action in U.S. District Court, under 49 U.S.C. 46106, 46107, seeking to enjoin any air carrier from violating the terms of this Order.

11. The FAA may modify or withdraw any provision in this Order on its own or on application by any carrier for good cause shown.

Issued in Washington, DC, on June 6, 2025.
Christopher J. Rocheleau,
Acting Administrator, Federal Aviation Administration.

[FR Doc. 2025-10613 Filed 6-6-25; 4:15 pm]

BILLING CODE P